DEPARTMENT OF THE INTERIOR

Bureau of Ocean Energy Management

[Docket No. BOEM-2023-0025]

Commercial Leasing for Wind Power Development on the Gulf of Maine Outer Continental Shelf (OCS)—Call for Information and Nominations

AGENCY: Bureau of Ocean Energy Management (BOEM or we), Interior.

ACTION: Call for information and nominations; request for comments.

SUMMARY: This call for information and nominations (Call or notice) invites public comment on, and assesses interest in, possible commercial wind energy leasing on the U.S. OCS in the Gulf of Maine. On August 19, 2022, BOEM initiated the competitive leasing process by issuing a request for interest (RFI) to solicit indications of interest and other information for BOEM to determine whether competitive interest existed for scheduling lease sales. This Call represents the next step in the competitive leasing process. The Call area is identified and described in section 6 below. Those interested in providing comments or information regarding site conditions, resources, and multiple uses in close proximity to or within the Call area should provide the information requested in section 7, “Requested Information from Interested or Affected Parties,” under the “Supplementary Information” heading of this Call. Those interested in leasing within the Call area for a commercial wind energy project should provide the information described in section 8, “Required Nomination Information,” under “Supplementary Information.” BOEM may or may not offer a lease for a commercial offshore wind energy project within the Call area after further government consultations, public participation, and environmental analyses.

DATES: Your interest in or comments on commercial leasing within the Call area must be received by BOEM no later than June 12, 2023. Late submissions may not be considered.

ADDRESSES: Please submit nomination information for commercial leasing as discussed in section 8 entitled “Required Nomination Information” electronically via email to renewableenergy@boem.gov or hard copy by mail to the following address: Zachary Jylkka, Bureau of Ocean Energy Management, Office of Renewable Energy Programs, 45600 Woodland Road, Mailstop: VAM-OREP, Sterling, VA 20166. If you elect to mail a hard copy, also include an electronic copy on a portable storage device. Do not submit nominations via the Federal eRulemaking Portal. BOEM will list the qualified parties that submitted nominations and the aggregated locations of nominated areas on its website after review of the nominations.

Please submit all other comments and information by either of the following two methods:

1. Federal eRulemaking Portal: http://www.regulations.gov. In the search box at the top of the web page, enter BOEM-2023-0025 and then click “search.” Follow the instructions to submit public comments and to view supporting and related materials.

2. By mail to the following address: Bureau of Ocean Energy Management, Office of Renewable Energy Programs, 45600 Woodland Road, Mailstop: VAM-OREP, Sterling, VA 20166.

Treatment of confidential information is addressed in section 9 of this notice entitled “Protection of Privileged, Personal, or Confidential Information.” BOEM will post all comments received on regulations.gov unless labeled as confidential.

FOR FURTHER INFORMATION CONTACT: Zachary Jylkka, Bureau of Ocean Energy Management, Office of Renewable Energy Programs, 45600 Woodland Road (VAM-OREP), Sterling, Virginia 20166. (978) 491-7732 or Zachary.Jylkka@boem.gov.

For information regarding qualification requirements to hold an OCS wind energy lease, contact Gina Best, BOEM Office of Renewable Energy Programs, at Gina.Best@boem.gov or (703) 787-1341.

SUPPLEMENTARY INFORMATION:

1. Authority

This Call is published under subsection 8(p)(3) of the Outer Continental Shelf Lands Act (OCSLA), 43 U.S.C. 1337(p)(3), and its implementing regulations at 30 CFR 585.210 and 585.211.

2. Purpose

The OCSLA requires BOEM to award leases competitively unless BOEM determines that there is no competitive interest (43 U.S.C. 1337(p)(3)). The primary purpose of this Call is to collect further information and feedback on industry interest, site conditions, resources, and ocean uses within, and surrounding, the Call area.

An essential part of BOEM's renewable energy leasing process is working closely with Federal agencies, Tribes, State and local governments, industry, and ocean users to identify areas that may be suitable for potential offshore wind development to power the Nation. BOEM has not yet determined which areas, if any, within the Call area may be offered for lease. Your input is essential and will help BOEM determine areas that may be suitable for offshore wind development. There will be multiple opportunities to provide feedback throughout the renewable energy planning and leasing process, including if BOEM receives any project proposals in the future. A detailed description of the Call area may be found below in section 6, “Description of Call Area.” For more information about BOEM's competitive and noncompetitive leasing processes, please see section 4, “BOEM's Planning and Leasing Process.”

3. Background

The Energy Policy Act of 2005 amended OCSLA by adding subsection 8(p)(1)(C), which authorizes the Secretary of the Interior (Secretary) to grant leases, easements, and rights-of-way (ROWs) on the OCS for activities that are not otherwise authorized by law and that produce or support production, transportation, or transmission of energy from sources other than oil or gas, including renewable energy sources. The Secretary delegated this authority to the BOEM Director. On April 29, 2009, the Department of the Interior published regulations entitled “Renewable Energy and Alternate Uses of Existing Facilities on the Outer Continental Shelf,” ¹ which were subsequently re-codified at 30 CFR part 585.² The regulations were reorganized by final rule on January 31, 2023, transferring certain regulations related to safety and enforcement to the Bureau of Safety and Environmental Enforcement.³

¹ 74 FR 19638 (April 29, 2009).

² 76 FR 64432 (October 18, 2011).

³ 88 FR 6376 (January 31, 2023).

In March 2021, the Biden-Harris administration established the goal to deploy 30 gigawatts (GW) of offshore wind energy capacity by 2030. Last year, the Biden-Harris administration announced expanded plans to grow the floating offshore wind energy industry, and set a target to deploy 15 GW of floating offshore wind energy capacity by 2035. BOEM is committed to both of these ambitious goals. BOEM is responsibly fostering the growth of offshore wind energy capacity and participating in collaborative, data-based planning to inform decisions involving shared ocean resources and the many users that depend on them.

BOEM appreciates the importance of coordinating its planning with other OCS users, regulators, and relevant Federal agencies including, but not limited to, the U.S. Fish and Wildlife Service, the National Park Service, the U.S. Army Corps of Engineers, the U.S. Coast Guard (USCG), the National Oceanic and Atmospheric Administration (NOAA), and the Department of Defense (DOD). BOEM also regularly coordinates with, and requests input from, the Northeast Regional Ocean Council, which includes federally recognized Tribes, Federal and State agencies, and fishery management councils. BOEM also uses information contained in the Northeast Ocean Data Portal ⁴ in its decision-making, among other sources of information, because the portal includes maps of marine life, habitat areas, cultural resources, transportation links, fishing areas, and other human uses that must be considered when offshore energy or other infrastructure projects are proposed.

⁴ The Northeast Ocean Data Portal (maintained by the Northeast Regional Ocean Council https://www.northeastoceandata.org/) draws upon data from the MarineCadastre.gov national data portal, which was developed through a partnership between NOAA and BOEM. MarineCadastre.gov is an integrated marine information system that provides data, tools, and technical support for ocean and Great Lakes planning, designed specifically to support renewable energy siting on the OCS, but also used for other ocean-related efforts and recognized by regional ocean governance groups as the central place for authoritative Federal ocean data, metadata, and map services.

In 2019, BOEM received a letter from Governor Sununu of New Hampshire, requesting the establishment of an intergovernmental offshore wind renewable energy task force for the State. Given the regional interest in offshore wind energy development, BOEM decided to establish the Gulf of Maine Intergovernmental Renewable Energy Task Force (“Task Force”), which comprises Federal officials and elected Tribal, State, and local officials (or their designated employees with authority to act on their behalf) from Maine, New Hampshire, and Massachusetts. Two Task Force meetings have been held to date: on December 12, 2019, and May 19, 2022. Materials from the Task Force meetings are available on the BOEM website at: https://www.boem.gov/renewable-energy/state-activities/maine/gulf-maine.

4. BOEM's Planning and Leasing Process

a. Determination of Competitive Interest

Subsection 8(p)(3) of OCSLA states that “the Secretary shall issue a lease, easement, or right-of-way . . . on a competitive basis unless the Secretary determines after public notice of a proposed lease, easement, or right-of-way that there is no competitive interest.”

If BOEM determines that competitive interest exists in acquiring a lease to develop offshore wind energy and the areas within the Call area are appropriate to lease, BOEM may hold one or more competitive lease sales for those areas. If BOEM holds a lease sale, all qualified bidders, including bidders that did not submit a nomination in response to this Call, will be able to participate in the lease sale.

BOEM reserves the right to refrain from offering for lease any areas that are nominated as a result of this Call and to modify nominated areas before offering them for lease.

b. Competitive Leasing Process

BOEM will follow the remaining steps required by 30 CFR 585.211 through 585.225 if it decides to proceed with the competitive leasing process after analyzing the responses to this Call. Those steps are:

(1) Area Identification: Based on all the information received, including information in response to this Call, BOEM will identify areas for environmental analysis and consideration for leasing. Those areas will constitute wind energy areas (WEAs) and will be subject to environmental analysis in consultation with appropriate Federal agencies, federally recognized Tribes, State and local governments, and other interested parties. Before finalizing the WEAs, BOEM has committed to publishing draft WEAs and will hold a 30-day comment period with a docket on Regulations.gov.

(2) Proposed Sale Notice (PSN): If BOEM decides to proceed with a competitive lease sale within the WEAs, BOEM will publish a PSN in the Federal Register with a comment period of 60 days. The PSN will describe the areas BOEM intends to offer for leasing, the proposed conditions of a lease sale, the proposed auction format of the lease sale, and the lease instrument, including proposed lease addenda. Additionally, the PSN will describe the criteria and process for evaluating bids in the lease sale.

(3) Final Sale Notice (FSN): After considering the comments on the PSN and completing its environmental analysis and consultations, if BOEM decides to proceed with a competitive lease sale, it will publish an FSN in the Federal Register at least 30 days before the date of the lease sale.

(4) Bid Submission and Evaluation: Following publication of the FSN in the Federal Register, BOEM will offer the lease areas through a competitive sale process, using procedures specified in the FSN. BOEM will review the sale, including bids and bid deposits, for technical and legal adequacy. BOEM will ensure that bidders have complied with all applicable regulations. BOEM reserves the right to reject any and all bids and to withdraw an offer to lease an area, even after bids have been submitted.

(5) Issuance of a Lease: Following identification of the winning bidder on a lease area, BOEM will notify that bidder and provide the lease documents for signature.

5. Development of the Call Area

Following the RFI comment period, which closed on October 3, 2022, BOEM analyzed all submissions and identified recurring themes around recommended areas for removal from leasing consideration, areas of significant concern, and key datasets. This analysis, conducted in partnership with the NOAA National Centers for Coastal Ocean Science (NCCOS), resulted in the boundaries of a draft Call area (see section 5.a for more information on the BOEM/NCCOS partnership). The draft Call area was posted on BOEM's website on January 10, 2023, and was the subject of a series of in-person and virtual information exchanges throughout January and February 2023. During the information exchanges, BOEM solicited feedback on the draft Call area and the proposed approach for the eventual identification of WEAs.

These information exchanges varied in approach, with in-person meetings intended for a broad audience, and virtual meetings focused on specific ocean users and resource concerns (e.g., shipping and maritime transportation, commercial and recreational fisheries, environment, and wildlife). To see draft Call area meeting dates and materials, visit: https://www.boem.gov/renewable-energy/state-activities/gulf-maine-draft-call-area-engagement-meetings. BOEM also engaged in discussions with several Federal agencies and Tribal and State governments before deciding upon the Call area boundaries.

Responses to the Call will assist BOEM in identifying portions of the OCS that require further analysis. That analysis includes comparing commercial nominations with public comments submitted in response to this Call so that potential use conflicts can be analyzed before WEAs are designated (area identification). BOEM's analysis during area identification will further evaluate the appropriateness of the Call area for offshore wind energy development, balanced with potential ocean user conflicts. BOEM will consider information from environmental reviews, consultations, public comments, and continued coordination with the Task Force. Consequently, BOEM anticipates designating specific WEAs within the Call area and developing lease terms and conditions to mitigate any possible adverse impacts from leasing and site assessment activities.

a. BOEM/NCCOS Partnership

In September 2022, BOEM announced enhancements to its area identification process. These changes included a commitment to using the best available science and modeling approaches, including a partnership with NCCOS to employ a spatial model that analyzes entire marine ecosystems to identify the best areas for wind energy sites. NCCOS and BOEM are leveraging a team of expert spatial planners, marine and fisheries scientists, project coordinators, environmental policy analysts, and other subject matter experts to develop the Gulf of Maine Offshore Wind Suitability Model (suitability model). The team conducted initial spatial analyses of the RFI area, relying largely on RFI comments, to remove areas from the draft Call area boundaries. BOEM and NCCOS intend to use the same methods previously applied to offshore wind energy siting efforts in the Gulf of Mexico and Central Atlantic to inform Gulf of Maine draft WEAs. NCCOS's spatial modeling approach provides a powerful tool for identifying areas that are most suitable for offshore wind energy development. Additionally, BOEM intends for this partnership and modeling approach to enhance transparency, improve engagement, and provide a consistent, reproducible methodology for understanding and deconflicting ocean space.

b. Coordination With DOD

The DOD has conducted a preliminary assessment of compatibility between offshore wind energy development and DOD activities in the Gulf of Maine. At the May 2022 task force meeting, the Military Aviation and Installation Assurance Siting Clearinghouse (“DOD Clearinghouse”) ⁵ identified several concerns that will need to be evaluated further as BOEM advances in its planning process and refines possible WEAs. DOD operations and missions that potentially may be affected and will require additional analysis include:

⁵ For more on the DOD Clearinghouse's authority and mission, visit: https://www.acq.osd.mil/dodsc/about/index.html.

• North American Aerospace Defense Command long-range radar;

• U.S. Navy sea trials of Arleigh Burke-class destroyers conducted in the vicinity of Bath, ME;

• Naval Computer and Telecommunications Area Master Station Atlantic: Detachment Cutler operations;

• Special Use Airspace Warning Area W-103: Air National Guard training area.

The DOD Clearinghouse prefers that BOEM avoid the entirety of W-103 but recognizes that a number of ocean use considerations exist in the area. The DOD Clearinghouse is willing to take a closer look at potential compatibility with offshore wind energy development should BOEM identify areas within W-103 in a later phase of the planning process.

BOEM may refine portions of the Call area during the area identification process should DOD issue an updated compatibility assessment between its activities and commercial offshore wind energy development. DOD assessments typically identify wind energy exclusion areas and areas that may require site-specific conditions and stipulations to ensure offshore wind energy facilities are compatible with DOD activities. These stipulations may include, among others: hold and save harmless agreements; mandatory coordination with DOD on specified activities; restrictions on electromagnetic emissions; and evacuation procedures from the lease area for safety reasons when notified by the DOD. BOEM may remove from leasing consideration any OCS blocks identified as incompatible with DOD's activities in the updated assessment.

c. Coordination With USCG

On April 6, 2023, USCG published notice of a final report titled “Port Access Route Study: Approaches to Maine, New Hampshire, Massachusetts” (MNMPARS) (USCG-2022-0047-0062) in the Federal Register.⁶ BOEM is aware of potential conflicts with the recommended fairways published in the MNMPARS. BOEM is working closely with USCG to ensure WEAs and fairways are deconflicted during area identification and subsequent phases of the leasing process.

⁶ 88 FR 20547 (April 6, 2023).

6. Description of Call Area

To determine the boundaries of the Call area, BOEM analyzed comments received in response to the RFI.⁷ Through this analysis, BOEM identified key themes and focused on areas where a considerable number of comments and supporting information pointed to: a) overlapping conflicts and b) recommendations for area exclusions where established boundaries protect against existing ocean activities (e.g., habitat management areas). NCCOS supported this effort and analysis through the development of a “constraints model.” This model incorporated RFI comment recommendations and spatial data referenced in BOEM's Gulf of Maine Data Inventory (released with the RFI in August 2022 and available on BOEM's website: https://www.boem.gov/renewable-energy/state-activities/maine/gulf-maine). Areas considered as constraints and removed from the Call area include (note: several of these areas overlapped with one another):

⁷ 87 FR 51129 (August 19, 2022).

• Areas within 20 nautical miles (nm) of the coastline (not including islands)

• Groundfish closure areas

• Closed Area I North

• Gulf of Maine cod spawning protection area

• Habitat management areas

• Coral protection areas

• Traffic separation schemes (2 nm setback from the sides; 5 nm setback from the entry and exit)

• Jeffreys Ledge (depths shallower than 120 meters)

• Jordan Basin Dedicated Habitat Research Area

• Areas identified as “critical” and “high” impact zones for next generation and terminal doppler weather radar systems (0-35 kilometers from radar installations identified by NOAA National Weather Service)

• Environmental Protection Agency designated ocean disposal sites

• Environmental sensors and buoys identified by NOAA's Marine Environmental Buoy Database

• Liquid natural gas installations and pipelines

In addition to the constraint areas listed above, BOEM removed from the Call area an OCS maritime area claimed by both Canada and the United States that was previously included in the RFI. BOEM determined, in consultation with the U.S. Department of State, that consideration of leasing in this area of territorial dispute, otherwise referred to as “the Gray Zone” in the vicinity of Machias Seal Island and North Rock, would negatively affect the prospects for resolution of this maritime dispute as well as the underlying territorial dispute regarding Machias Seal Island and North Rock. BOEM and the U.S. Department of State are coordinating closely with the Government of Canada, including Natural Resources Canada, Canada Energy Regulator, the Canada-Nova Scotia Offshore Petroleum Board, and the Canada Newfoundland Labrador Offshore Petroleum Board. BOEM welcomes Canadian feedback on all elements of this Call.

BOEM also took action to refine the southern boundary of the draft Call area. As explained in the RFI development framework (available here: https://www.boem.gov/sites/default/files/documents/renewable-energy/state-activities/Gulf%20of%20Maine%20RFI%20Development%20Framework_05092022.pdf), BOEM intended to establish the southern boundary of the draft Call area so that the area included only the physiographic, oceanographic, and biotic variables that together uniquely define the Gulf of Maine. The goal of this approach was avoiding Georges Bank. Comments on the RFI and feedback provided during the draft Call area information exchanges suggested that portions of Georges Bank remained in the draft Call area and should be removed. Given that was BOEM's goal, BOEM is following a recommendation of the New England Fishery Management Council to remove from the Call area those areas that intersect with the 140-meter line of bathymetry to avoid Georges Bank. (BOEM derived the 140-meter contour line from the NOAA coastal relief bathymetry raster model, available here: https://www.ncei.noaa.gov/products/coastal-relief-model.)

The Call Area exclusions detailed above resulted in an approximately 29 percent reduction in comparison to the RFI Area. The Call Area consists of 9,804,429 acres located off the coasts of Massachusetts, New Hampshire, and Maine (see Figure 1). The map depicting the Call Area, and a spreadsheet listing its specific OCS blocks are available for download on the BOEM website at https://www.boem.gov/renewable-energy/state-activities/maine/gulf-maine.

BILLING CODE 4340-98-P

BILLING CODE 4340-98-C

BOEM recognizes that the Call area still includes areas that are conflicted by existing ocean uses (e.g., fishing, shipping) and by sensitive habitat that are important to the conservation and recovery of protected species. BOEM requests additional information on these areas through this notice and will use the NCCOS model to assist in the identification of areas suitable for WEAs through the next phase of the planning process.

7. Requested Information From Interested or Affected Parties

BOEM requests comments regarding the following features, activities, mitigations, or concerns within or around the Call area. Commenters should be as specific and detailed as possible to help BOEM understand and address the comments. Where applicable, spatial information should be submitted in a format compatible with ESRI ArcGIS (ESRI shapefile or ESRI file geodatabase) in the NAD 83 geographic coordinate system.

a. BOEM and NCCOS Suitability Modeling

i. In partnership with NCCOS (described in section 5.a), BOEM published a list of the datasets it plans to use to inform the WEA suitability model. The datasets are available at https://www.boem.gov/renewable-energy/state-activities/maine/gulf-maine. BOEM requests comments on the identified datasets and information responsive to the following questions: Are these data the best available? Do the data reflect the most relevant and important time series and ranges? Are there any known gaps or limitations in the data?

ii. Transmission—BOEM requests recommendations on data to inform suitability modeling for areas between the Call area and the coastline. This work would build upon the data and approach used in the WEA site suitability model. Working with our partners in Tribal, State, and local governments will be essential for procuring available data and identifying data gaps.

b. Call Area: Areas Requiring Further Analysis

Through the draft Call area information exchange meetings in January 2023, BOEM identified several areas that have not been removed and require further analysis. This list reflects areas that BOEM heard about most frequently during meetings and through feedback, but is not exhaustive. BOEM currently plans to include all these areas in the WEA suitability model (described in section 5.a), which could result in a finding that they have low or high suitability for offshore wind. However, BOEM asks for additional information on the specific areas listed below to inform whether alternative action may be necessary (e.g., removing or constraining the areas prior to running the suitability model). Specifically, BOEM seeks data and science-based justifications for how boundaries and any buffers or setbacks should be determined for these areas (in the cases where none presently exist), as well as information regarding whether or not any effects from floating offshore wind could be mitigable.

i. Atlantic Large Whale Take Reduction Plan (ALWTRP) Restricted Areas

ALWTRP restricted areas place seasonal restrictions on commercial lobster and crab trap and pot fisheries to reduce serious injuries and mortalities to North Atlantic right whales, humpback, and fin whales.

ii. Platts Bank

Several commentors identified Platts Bank as a sensitive area with complex habitat that supports numerous productive commercial fisheries.

iii. Georges Bank

As described in section 6, BOEM removed areas from the southern edge of the Call area along the 140-meter line of bathymetry to avoid Georges Bank. However, BOEM recognizes that the boundary between the Gulf of Maine and Georges Bank is a sensitive habitat area, contributing to oceanic processes such as upwelling, while also supporting important fisheries, such as scalloping grounds.

iv. Lobster Management Area (LMA) 1

Several commentors recommended BOEM avoid leasing in LMA 1 due to the high density of lobster fishing activity and importance of this fishery to coastal economies and cultural heritage. BOEM removed from the Call area portions of LMA 1, though some overlap remains.

c. In addition to the areas listed in section 7.b above, BOEM seeks information about potentially conflicting uses of the Call area, including, but not limited to:

i. Recreational and commercial fishery use of the Call area, including the types of fishing gear used and the potential compatibility (if any) of those gear types with floating offshore wind installations. Please include any recommendations for reducing current use conflicts and how to treat any anticipated redistribution of targeted species (and their habitat and prey) as a result of climate change.

ii. Habitat areas that may require special attention during siting and construction.

iii. Areas that are of particular importance to protected species, as well as recommendations on how to treat any anticipated redistribution of these species (and their habitat and prey) as a result of climate change.

iv. Known archaeological and cultural resource sites.

d. Information regarding the identification of historic properties or potential effects to historic properties from leasing, site assessment activities (including the construction of meteorological towers or the installation of meteorological buoys), or commercial wind energy development in the Call area. This includes potential offshore archaeological sites or other historic properties within the areas described in this notice and onshore historic properties that could potentially be affected by renewable energy activities within the Call area. This information will inform BOEM's review of future undertakings conducted pursuant to section 106 of the National Historic Preservation Act (NHPA) and the National Environmental Policy Act (NEPA).

e. Information relating to visual resources and aesthetics, key observation points, the potential impacts of wind turbines and associated infrastructure to those resources, and potential strategies to help minimize or mitigate any visual effects.

f. Information regarding the potential for interference with radar systems covering the Call area, including, but not limited to, the use of surface and airborne radar systems for offshore search and rescue operations and for environmental monitoring.

g. Information on the constraints and advantages of possible electrical cable transmission routes, including onshore landing and interconnection points for cables connecting offshore wind energy facilities to the onshore electrical grid; information regarding future demand for electricity in the region.

h. BOEM is continuing to take a planned approach to transmission, including potentially requiring the use of shared infrastructure for interconnection, where appropriate. BOEM requests expressions of general interest by developers in constructing a backbone transmission system, or other shared infrastructure methods that would transport electricity generated by wind projects in the Call area to the onshore grid. Comments should include a general description of the transmission system's proposed path, capacity, technologies proposed, and potential interconnection points. Feedback may also include comment from potential lessees on ways to better incentivize use of shared infrastructure for transmission.

i. Information regarding the size and number of WEAs, taking into consideration the offshore wind energy goals of States surrounding the Call area. BOEM requests further information on what additional factors should be considered in determining the size and number of WEAs, including factors specifically related to the deployment of floating wind turbine technology.

j. Information regarding spatial data on lobster fishery effort and revenue for LMAs 1 and 3. BOEM recognizes that there is a general deficiency in lobster data within the Gulf of Maine and seeks recommendations on best available data. BOEM also requests information regarding the timeline for the availability of new data that will be collected as a result of recent changes in monitoring and reporting requirements.

k. Information regarding potential auction formats that BOEM may consider as part of the leasing process. In particular, BOEM is interested in feedback regarding the use of bidding credits as a part of a multi-factor auction. In determining the winning bidder, how should BOEM consider factors such as supply chain investments, workforce training commitments, commitments to connect to a regional or inter-regional transmission solution, nature-inclusive design, and compensatory mitigation to fisheries potentially impacted by wind energy development in the Call area? Are there other factors BOEM should consider in a multi-factor auction?

l. Are there impact considerations BOEM should be aware of between the different floating wind turbine foundation, mooring, and anchor technologies as they relate to the Gulf of Maine? BOEM is also interested in information regarding foundation type impacts on potential port infrastructure opportunities and operations and on maintenance practices, specifically when considering greater transmission distance and deeper water depth.

m. Feedback on possible offshore wind farm configurations. It is not currently clear what avoidance buffers or distance requirements may be proposed for floating wind turbines, mooring lines, and dynamic cables. The 1 × 1 nm grid developed for fixed foundation wind farms proposed on the OCS offshore Rhode Island and Massachusetts may not be the most suitable layout for floating wind farms. Thus, considerations for the spacing and possible clustering of turbine arrays to allow for navigation and fishing access near and through floating wind farms must be considered.

n. Information related to Tribal Nations in the Gulf of Maine and interactions with potential offshore wind energy facilities, such as potential impacts to Tribal cultural practices; lands; treaty rights; resources; ancestral lands; sacred sites, including sites that are submerged; and access to traditional areas of cultural or religious importance on federally managed lands and waters; and the ability of a Tribe to govern or provide services to its members.

o. Socioeconomic information for communities potentially affected by wind energy leasing in the Call area, including community profiles, vulnerability and resiliency data, and information on environmental justice communities. BOEM also solicits comments on how best to meaningfully engage with these communities.

p. Information on coastal or onshore activities needed to support offshore wind development, such as port and transmission infrastructure, and associated potential impacts to recreation, scenic, cultural, historic, and natural resources relating to those activities.

q. Any other relevant information that you think BOEM should consider during its planning and decision-making process for the purpose of identifying areas to lease within the Call area.

8. Required Nomination Information

BOEM published the indications of competitive interest for a wind energy lease received in response to the RFI on its website, including both a heatmap of all the indications of competitive interest and maps identifying areas of interest by individual company. BOEM has received information that its practice of publishing the areas nominated by each qualified company in response to a Call may disincentivize entities from submitting nominations. Nominations and the accompanying rationale are extremely useful to help BOEM understand and model the commercial viability of portions of the OCS. Therefore, BOEM will not publish individual maps of each company's nominations received in response to this Call. We will publish a heatmap that shows an aggregated view of all the nominations and a list of the qualified companies that submitted nominations. Where applicable, spatial information should be submitted in a format compatible with ESRI ArcGIS (ESRI shapefile or ESRI file geodatabase) in the NAD 83 geographic coordinate system.

If you wish to nominate one or more areas for a commercial wind energy lease within the Call area, you must provide the following information for each nomination:

(a) The BOEM protraction name, number, and the specific whole or partial OCS blocks within the Call area that you are interested in leasing. If your nomination includes one or more partial blocks, please describe those partial blocks in terms of sixteenths (i.e., sub-block) of an OCS block. Each area you nominate should be sized appropriately to accommodate the development of a reasonable wind energy facility (e.g., a facility with the generation capacity of up to 1,500 megawatts). For context, BOEM would consider the nomination of an area containing 150,000 acres appropriate to support a generation capacity of up to 1,500 megawatts (assuming a conservative power density of 0.01 megawatts per acre). Nominations that considerably exceed the acreage needed to support a generation capacity of up to 1,500 megawatts, such as a nomination for the entire Call area, may be deemed unreasonable and not accepted by BOEM.

(b) A rationale describing why the areas nominated were selected. The more detailed the rationale provided, the more informative it will be to BOEM's process. BOEM is particularly interested in how factors like wind speed, water depth, seafloor slope and bottom type, and interconnection points factor into the nomination process.

(c) A description of your objectives and the facilities that you would use to achieve those objectives.

(d) A preliminary schedule of proposed activities, including those leading to commercial operations.

(e) Available and pertinent data and information concerning renewable energy resources and environmental conditions in each area that you wish to lease, including energy and resource data, and other information used to evaluate the area.

(f) Documentation demonstrating that you are legally, technically, and financially qualified to hold an OCS wind energy lease, as set forth in 30 CFR 585.107-585.108. Qualification materials should be developed in accordance with the guidelines available at https://www.boem.gov/Renewable-Energy-Qualification-Guidelines/. For examples of documentation appropriate for demonstrating your legal qualifications and related guidance, contact Gina Best, BOEM Office of Renewable Energy Programs, at Gina.Best@boem.gov or 703-787-1341.

9. Protection of Privileged, Personal, or Confidential Information

a. Freedom of Information Act

BOEM will protect privileged or confidential information that you submit when required by the Freedom of Information Act (FOIA). Exemption 4 of FOIA applies to trade secrets and commercial or financial information that is privileged or confidential. If you wish to protect the confidentiality of such information, clearly label it and request that BOEM treat it as confidential. BOEM will not disclose such information if BOEM determines under 30 CFR 585.114(b) that it qualifies for exemption from disclosure under FOIA. Please label privileged or confidential information “Contains Confidential Information” and consider submitting such information as a separate attachment.

BOEM will not treat as confidential any aggregate summaries of such information or comments not containing such privileged or confidential information. Information that is not labeled as privileged or confidential may be regarded by BOEM as suitable for public release.

b. Personally Identifiable Information

BOEM encourages you not to submit anonymous comments. Please include your name and address as part of your comment. You should be aware that your entire comment, including your name, address, and any personally identifiable information (PII) included in your comment, may be made publicly available. All submissions from identified individuals, businesses, and organizations will be available for public viewing on regulations.gov. Note that BOEM will make available for public inspection all comments, in their entirety, submitted by organizations and businesses, or by individuals identifying themselves as representatives of organizations or businesses.

For BOEM to consider withholding your PII from disclosure, you must identify any information contained in your comments that, if released, would constitute a clearly unwarranted invasion of your personal privacy. You must also briefly describe any possible harmful consequences of the disclosure of information, such as embarrassment, injury, or other harm. Even if BOEM withholds your information in the context of this rulemaking, your submission is subject to FOIA and, if your submission is requested under the FOIA, your information will only be withheld if a determination is made that one of the FOIA's exemptions to disclosure applies. Such a determination will be made in accordance with the Department's FOIA regulations and applicable law.

c. Section 304 of the NHPA (54 U.S.C. 307103(a))

After consultation with the Secretary, BOEM is required to withhold the location, character, or ownership of historic resources if it determines that disclosure may, among other things, risk harm to the historic resources or impede the use of a traditional religious site by practitioners. Tribal entities should designate information that falls under section 304 of NHPA as confidential.

10. BOEM's Environmental Review Process

Before deciding whether leases may be issued, BOEM will prepare an environmental assessment (EA) under NEPA (including public comment periods to determine the scope of the EA and to review and comment on the draft EA). The EA will analyze anticipated impacts from leasing and site characterization and assessment activities that BOEM may approve after a lease is issued. Site characterization activities include geophysical, geotechnical, archaeological, and biological surveys; site assessment activities include installation and operation of meteorological buoys. BOEM also will conduct appropriate consultations with Federal agencies and Tribal, State, and local governments during the EA. These consultations include, but are not limited to, those required by the Coastal Zone Management Act, the Magnuson-Stevens Fishery Conservation and Management Act, Endangered Species Act, section 106 of the NHPA, and Executive Order 13175, “Consultation and Coordination with Indian Tribal Governments.”

Before BOEM may allow the construction of a wind energy project in the Call area, a construction and operations plan (COP) needs to be submitted and approved by BOEM. Prior to the approval of a COP, BOEM will need to consider the potential environmental effects of the construction and operation of any wind energy facility under a separate, project-specific NEPA analysis. This analysis will include additional opportunities for public involvement and may result in the publication of an environmental impact statement.

Elizabeth Klein,
Director, Bureau of Ocean Energy Management.

[FR Doc. 2023-08670 Filed 4-25-23; 8:45 am]

BILLING CODE 4340-98-P